DEPARTMENT OF COMMERCE

National Oceanic and Atmospheric Administration

RIN 0648-XG152

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an exempted fishing permit application submitted by the Cape Cod Commercial Fishermen's Alliance contains all of the required information and warrants further consideration. This exempted fishing permit would require participants to use electronic monitoring systems on 100 percent of sector trips for catch accounting in the groundfish fishery. Additionally, vessels would be authorized to access portions of groundfish closed areas. Regulations under the Magnuson-Stevens Fishery Conservation and Management Act require publication of this notification to provide interested parties the opportunity to comment on applications for proposed exempted fishing permits.

DATES: Comments must be received on or before April 27, 2018.

ADDRESSES: You may submit written comments by either of the following methods:

• Email: nmfs.gar.efp@noaa.gov. Include in the subject line “100 PERCENT EM EFP.”

• Mail: Michael Pentony, Regional Administrator, NMFS, Greater Atlantic Regional Fisheries Office, 55 Great Republic Drive, Gloucester, MA 01930. Mark the outside of the envelope “100 PERCENT EM EFP.”

FOR FURTHER INFORMATION CONTACT: Claire Fitz-Gerald, Fishery Management Specialist, 978-281-9255.

SUPPLEMENTARY INFORMATION: Groundfish sectors are required to implement and fund an at-sea monitoring (ASM) program. Sectors may use electronic monitoring (EM) to satisfy this monitoring requirement, provided that NMFS deems the technology sufficient for catch monitoring. NMFS has yet to approve EM as a suitable alternative to ASM. However, NMFS is working with industry and other stakeholders to test the operational feasibility of EM and resolve outstanding barriers to implementation. Project partners include the Cape Cod Commercial Fishermen's Alliance, The Nature Conservancy, the Maine Coast Fishermen's Association, the Gulf of Maine Research Institute, and fishermen from the Northeast Fishery Sectors V & XI, the GB Cod Fixed Gear Sector, the Sustainable Harvest Sector, and the Maine Coast Community Sector.

In fishing year 2017, NMFS issued an exempted fishing permit (EFP) to these project partners to develop an audit-model EM program for the groundfish fishery. The EFP required vessels to use EM systems on 100 percent of groundfish sector trips to verify regulated groundfish discards. EM was used in lieu of human observers to meet their sector ASM requirements. Thirteen vessels using a variety of gear types (e.g. hook, benthic longline, sink gillnet, bottom trawl) participated in the project. A total of 81 trips were completed in fishing year 2017.

The project partners have submitted a renewal request for fishing year 2018. The proposed participant list includes 14 vessels, 13 of which participated in this EFP in fishing year 2017. Together, these vessels are expected to take an estimated 400 trips. The project partners expect up to 10 additional vessels may join the project in fishing year 2018.

Vessels participating in this EFP would be required to use EM on 100 percent of groundfish trips. Camera systems would be used in lieu of human at-sea monitors, and in addition to Northeast Fishery Observer Program (NEFOP) observers. Vessels would adhere to a vessel-specific monitoring plan detailing at-sea catch handling protocols. Vessels would submit haul-level electronic vessel trip reports (eVTR) with count and weight estimates for all groundfish discards.

The discard estimates provided in the eVTR would be used for catch accounting, and all catch of allocated groundfish would be deducted from the appropriate sector's allocation. The EM service provider would review the video footage and produce an EM summary report identifying, counting, and generating weight estimates for all groundfish discards. The provider would submit this report to NMFS. NMFS would compare the eVTR and EM summary file to ensure the submissions match within an established tolerance. If the trips do not match, the eVTR would not be used for catch accounting for that trip. For trips that carry a NEFOP observer, the NEFOP data would be used for catch accounting. The EM service provider would review 100 percent of the video footage at the outset of the fishing year, but may reduce the review percentage mid-year as part of audit-model testing, if approved by NMFS.

Because participating vessels would be fully monitored, project partners requested access to closed areas to incentivize participation and create additional fishing opportunities for healthy stocks. Vessels would be allowed to use hook gear and sink gillnets in Closed Area II from May 1 through February 15, hook gear in Western Gulf of Maine Closure Area, and jig gear in Cashes Ledge Closure Area.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 9, 2018.
Jennifer M. Wallace,
Acting Director, Office of Sustainable Fisheries, National Marine Fisheries Service.

[FR Doc. 2018-07596 Filed 4-11-18; 8:45 am]

BILLING CODE 3510-22-P